DEPARTMENT OF COMMERCE

International Trade Administration

[A-583-803]

Light-Walled Welded Rectangular Carbon Steel Tubing From Taiwan: Final Results of the Expedited Sunset Review of the Antidumping Duty Order

AGENCY: Import Administration, International Trade Administration, Department of Commerce.

SUMMARY: On July 1, 2011, the Department of Commerce (the Department) initiated the third sunset review of the antidumping duty order on light-walled welded rectangular carbon steel tubing from Taiwan pursuant to section 751(c) of the Tariff Act of 1930, as amended (the Act). The Department has conducted an expedited (120-day) sunset review of this order. As a result of this sunset review, the Department finds that revocation of the antidumping duty order would be likely to lead to continuation or recurrence of dumping as indicated in the “Final Results of Review” section of this notice.

DATES: Effective Date: October 18, 2011.

FOR FURTHER INFORMATION CONTACT: Jerrold Freeman or Minoo Hatten, AD/CVD Operations, Office 1, Import Administration, International Trade Administration, U.S. Department of Commerce, 14th Street and Constitution Avenue, NW., Washington, DC 20230; telephone: (202) 482-0180 or (202) 482-1690, respectively.

SUPPLEMENTARY INFORMATION:

Background

On July 1, 2011, the Department published the notice of initiation of the sunset review of the antidumping duty order ¹ on light-walled welded rectangular carbon steel tubing from Taiwan pursuant to section 751(c) of the Act. See Initiation of Five-Year (“Sunset”) Review, 76 FR 38613 (July 1, 2011) (Notice of Initiation).

¹ Antidumping Duty Order; Light-Walled Welded Rectangular Carbon Steel Tubing From Taiwan, 54 FR 12467 (March 27, 1989).

The Department received a notice of intent to participate in this sunset review from the domestic interested parties, Allied Tube and Conduit, Bull Moose Tube, California Steel and Tube, Hannibal Industries, JMC Steel Group, Leavitt Tube, Searing Industries, and Western Tube and Conduit (collectively the domestic interested parties), within the 15-day period specified in 19 CFR 351.218(d)(1)(i). The domestic interested parties claimed interested-party status under section 771(9)(C) of the Act as manufacturers and/or producers of a domestic like product in the United States.

The Department received a complete substantive response to the Notice of Initiation from the domestic interested parties within the 30-day period specified in 19 CFR 351.218(d)(3)(i). The Department received no substantive response from any respondent interested parties. In accordance with section 751(c)(3)(B) of the Act and 19 CFR 351.218(e)(1)(ii)(C)(2), the Department is conducting an expedited (120-day) sunset review of the antidumping duty order on light-walled welded rectangular carbon steel tubing from Taiwan.

Scope of the Order

The product covered by the order is light-walled welded carbon steel pipe and tube of rectangular (including square) cross-section having a wall thickness of less than 0.156 inch. This merchandise is classified under item number 7306.61.5000 of the Harmonized Tariff Schedule (HTS). It was formerly classified under item number 7306.60.5000. The HTS item numbers are provided for convenience and customs purposes only. The written product description remains dispositive.

Analysis of Comments Received

All issues raised in this review are addressed in the “Issues and Decision Memorandum for the Expedited Sunset Review of the Antidumping Duty Order on Light-Walled Welded Rectangular Carbon Steel Tubing From Taiwan” to Deputy Assistant Secretary for Import Administration Ronald K. Lorentzen from Deputy Assistant Secretary for Antidumping and Countervailing Duty Operations Christian Marsh dated concurrently with this notice (Issues and Decision Memo), which is hereby adopted by this notice. The issues discussed in the Issues and Decision Memo include the likelihood of continuation or recurrence of dumping and the magnitude of the margin of dumping likely to prevail if the order were revoked. Parties can find a complete discussion of all issues raised in this review and the corresponding recommendations in this public memorandum which is on file in the Central Records Unit, room 7046 of the main Department of Commerce building.

In addition, a complete version of the Issues and Decision Memo can be accessed directly on the Web at http://ia.ita.doc.gov/frn. The paper copy and electronic version of the Issues and Decision Memo are identical in content.

Final Results of Review

The Department determines that revocation of the antidumping duty order on light-walled welded rectangular carbon steel tubing from Taiwan would be likely to lead to continuation or recurrence of dumping at the following weighted-average percentage margins:

Company | Weighted-Average Margin (Percent)
Ornatube Enterprise | 5.51
Vulcan Industrial Corp. | 40.97
Yieh Hsing Industries, Ltd | 40.97
All other manufacturers/producers/exporters | 29.15

Notification Regarding APO

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

The Department is issuing and publishing the final results and notice in accordance with sections 751(c), 752(c), and 777(i)(1) of the Act.

Dated: October 11, 2011.
Ronald K. Lorentzen,
Deputy Assistant Secretary for Import Administration.

[FR Doc. 2011-26937 Filed 10-17-11; 8:45 am]

BILLING CODE 3510-DS-P